DEPARTMENT OF ENERGY

Federal Energy Regulatory Commission

[Docket Nos. EC06-120-000, et al.]

Duke Energy Trading and Marketing, L.L.C., et al.; Electric Rate and Corporate Filings

May 23, 2006.

The following filings have been made with the Commission. The filings are listed in ascending order within each docket classification.

1. Duke Energy Trading and Marketing, L.L.C.; Duke Energy Marketing America, LLC; The Cincinnati Gas & Electric Company d/b/a Duke Energy Ohio, Inc.

[Docket No. EC06-120-000]

Take notice that on May 18, 2006, Duke Energy Trading and Marketing, L.L.C., (DETM), Duke Energy Marketing America, LLC (DEMA) and the Cincinnati Gas & Electric Company d/b/a/ Duke Energy Ohio (Duke Energy Ohio), filed a request pursuant to section 203 of the Federal Power Act and part 33 of the Commission's regulations, for authorization of a transaction in which DETM and DEMA will transfer to Duke Energy Ohio contracts under which DETM and DEMA sell electric power at wholesale to the unaffiliated third parties.

Comment Date: 5 p.m. Eastern Time on June 8, 2006.

2. Ocean Peaking Power, L.L.C. v. Jersey Central Power & Light Company

[Docket No. EL05-142-002]

Take notice that on May 3, 2006, Jersey Central Power & Light Company (Jersey Central) and Ocean Peaking Power, L.P. (OPP) concluded a Settlement Agreement. Jersey Central states that it will provide a refund to OPP with interest compounded to the date of the Commission's approval of the settlement.

Comment Date: 5 p.m. Eastern Time on June 5, 2006.

3. Ocean Peaking Power, L.L.C. v. Jersey Central Power & Light Company

[Docket No. EL05-142-003]

Take notice that on May 3, 2006, Jersey Central Power & Light Company (Jersey Central) and Ocean Peaking Power, L.L.C. submitted a revised Generation Facility Transmission Interconnection Agreement designated Second Revised Service Agreement No. 604 under the PJM Open Access Transmission Tariff. Jersey Central states that the revised Agreement implements the Settlement Agreement approved by the Commission in the April 3, 2006 letter order in Docket No. EL05-142-000.

Comment Date: 5 p.m. Eastern Time on June 5, 2006.

Standard Paragraph

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E6-8334 Filed 5-30-06; 8:45 am]

BILLING CODE 6717-01-P